DEPARTMENT OF TRANSPORTATION

Federal Aviation Administration

Advisory Circular (AC) 23.1419-2C, Certification of Part 23 Airplanes for Flight in Icing Conditions

AGENCY: Federal Aviation Administration, DOT.

ACTION: Notice of issuance of advisory circular.

SUMMARY: This notice announces the issuance of Advisory Circular (AC) 23.1419-2C. This AC sets forth an acceptable means, but not the only means, of demonstrating compliance with the ice protection requirements in Title 14 of the Code of Federal Regulations (14 CFR) Part 23. The Federal Aviation Administration (FAA) will consider other methods of demonstrating compliance that an applicant may elect to present. This material is neither mandatory nor regulatory in nature and does not constitute a regulation. The guidance provided here applies to the approval of airplane ice protection systems for operating in the icing environment defined by Part 25, Appendix C. The guidance should be applied to new Type Certificates (TCs), Supplemental Type Certificates (STCs), and amendments to existing TCs for airplanes under part 3 of the Civil Aviation Regulations (CAR) and Part 23, for which approval under the provisions of § 23.1419 is desired. The proposed guidance is added for fluid ice protection systems, primary ice detection systems, ice protection of air data systems, failure analyses of ice protection systems, and modifications to airplanes certificated for flight in icing. The format is also changed to improve readability of the document.

The draft policy statement was issued for Public Comment on April 19, 2004 (69 FR 7846). When possible, comments received were used to modify the draft policy.

DATES: Advisory Circular 23.1419-2C was issued by the Manager, Small Airplane Directorate on July 21, 2004.

How to Obtain Copies: A paper copy of AC 23.1419-2C may be obtained by writing to the U.S. Department of Transportation, Subsequent Distribution Office, DOT Warehouse, SVC-121.23, Ardmore East Business Center, 3341Q 75th Avenue, Landover, MD 20785, telephone 301-322-5377, or by faxing your request to the warehouse at 301-386-5394. The policy will also be available on the Internet at http://www.airweb.faa.gov/AC.

Issued in Kansas City, Missouri, on July 22, 2004.
Dorenda D. Baker,
Manager, Small Airplane Directorate, Aircraft Certification Service.

[FR Doc. 04-18711 Filed 8-13-04; 8:45 am]

BILLING CODE 4910-13-P